DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary—Seth D. Harris

Vice-Chair—Assistant Secretary for Administration and Management—T. Michael Kerr

Alternate Vice-Chair—Director, Human Resources Center—Sydney T. Rose

Executive Secretary—Director, Executive Resources—Kim L.H. Green

Performance Officer—Director, Performance Management Center—Holly A. Donnelly

Rotating Membership

ASP James H. Moore, Deputy Assistant Secretary for Operations and Analysis—appointment expires on 09/30/16

BLS Jay A. Mousa, Associate Commissioner for Office of Field Operations—appointment expires 09/30/2016

EBSA Jonathan Kay, Regional Administrator, (New York)—appointment expires 09/30/14

MSHA Patricia W. Silvey, Deputy Assistant Secretary for Operations—appointment expires on 09/30/16

OASAM Charlotte A. Hayes, Deputy Assistant Secretary for Policy—appointment expires on 09/30/16

OASAM Naomi M. Barry-Perez, Director, Civil Rights Center—appointment expires on 09/30/16

OCFO Karen Tekleberhan, Deputy Chief Financial Officer—appointment expires 09/30/14

OFCCP Debra A. Carr, Division of Policy, Planning and Program Development—appointment expires on 09/30/16

OFCCP Diana S. Sen, Regional Director, New York—appointment expires on 09/30/16

OLMS Stephen J. Willertz, Director, Office of Enforcement and International Union Audits—appointment expires on 09/30/2016

OWCP Antonio A. Rios, Director, Longshore and Harbor Workers' Compensation Program—appointment expires on 09/30/2016

SOL Michael D. Felsen, Regional Solicitor, Boston—appointment expires on 09/30/16

SOL Jeffrey L. Nesvet, Associate Solicitor for Division of Federal Employees' and Energy Workers' Compensation—appointment expires on 09/30/16

WB Joan Y. Harrigan-Farrelly, Deputy Director—appointment expires on 09/30/16

WHD Patricia J. Davidson, Deputy Administrator, Office of Program Operations—appointment expires on 09/30/16

WHD Cynthia C. Watson, Regional Administrator (Dallas)—appointment expires 9/30/14

FOR FURTHER INFORMATION CONTACT: Ms. Kim L.H. Green, Director, Office of Executive Resources, Room N2453, U.S. Department of Labor, Frances Perkins Building, 200 Constitution Ave. NW., Washington, DC 20210, telephone: (202) 693-7642.

Signed at Washington, DC, on 25th day of November.
Thomas E. Perez,
Secretary of Labor.

[FR Doc. 2013-29535 Filed 12-12-13; 8:45 am]

BILLING CODE 4510-23-P